CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps State & National Social Network Study Partnership and Collaboration Survey for review and approval in accordance with the Paperwork Reduction Act of 1995, Public Law 104-13, (44 U.S.C. Chapter 35). Copies of this ICR, with applicable supporting documentation, may be obtained by calling the Corporation for National and Community Service, Robin Ghertner, at 202-606-6772 or email to rghertner@cns.gov. Individuals who use a telecommunications device for the deaf (TTY-TDD) may call 1-800-833-3722 between 8:00 a.m. and 8:00 p.m. Eastern Time, Monday through Friday.

DATES: Comments may be submitted, identified by the title of the information collection activity, within March 16, 2015.

ADDRESSES: Send comments to the Office of Information and Regulatory Affairs, Attn: Ms. Sharon Mar, OMB Desk Officer for the Corporation for National and Community Service, by any of the following two methods:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 30th, 2014. This comment period ended January 29th, 2015. No public comments were received from this Notice.

Description: While previous evaluation efforts have confirmed CNCS's impact on members and recipients of services such as increased education, skills, and civic participation, the current effort through the Social Network Study (SNS) will be the first evaluation of the collaboration and partnerships between ACSN grantees and organizations within their geographic communities. The main goal of the SNS is to gather through the Partnership and Collaboration (PAC) Survey an in-depth understanding of how ACSN grantees engage community organizations and to learn more about their relationships and interactions with other organizations within their network. The PAC will also provide information about both the barriers that prevent collaboration and interaction, as well as factors that could be utilized to overcome them. These outcomes are an important step to developing a more vigorous civic infrastructure and increasing capacity in the communities served by CNCS and its grantees. This study will also help CNCS disseminate best practices about collaboration and partnerships to other AmeriCorps programs. Information will be collected electronically via web primarily and telephone and mail-in options will be provided only to those not responsive to the web survey.

Type of Review: New.

Agency: Corporation for National and Community Service.

Title: AmeriCorps State & National Social Network Study Partnership and Collaboration Survey.

OMB Number: TBD.

Agency Number: None.

Affected Public: AmeriCorps grantees and their community partners.

Total Respondents: 250.

Frequency: Once.

Average Time per Response: 30 minutes.

Estimated Total Burden Hours: 125

Total Burden Cost (capital/startup): None.

Total Burden Cost (operating/maintenance): None.

Dated: February 9, 2015.
Stephen Plank,
Director, Research and Evaluation.

[FR Doc. 2015-02978 Filed 2-12-15; 8:45 am]

BILLING CODE 6050-28-P